NUCLEAR REGULATORY COMMISSION

[Docket No. 52-011; NRC-2008-0252]

Southern Nuclear Operating Company et al.; Notice of Availability of Environmental Assessment and Finding of No Significant Impact for License Amendment to Early Site Permit Issued to Southern Nuclear Operating Company et al., for Vogtle Electric Generating Plant ESP Site Located in Burke County, GA

AGENCY: Nuclear Regulatory Commission.

ACTION: Notice of availability.

FOR FURTHER INFORMATION CONTACT: Terri Spicher, Project Manager, AP1000 Branch 1, Division of New Reactors Licensing, Office of New Reactors, U.S. Nuclear Regulatory Commission, Washington, DC 20555-0001. Telephone: (301) 415-1670; fax number: (301) 415-6323; e-mail: Terri.Spicher@nrc.gov.

SUPPLEMENTARY INFORMATION:

I. Introduction

The Nuclear Regulatory Commission (NRC) is considering issuance of an amendment to Early Site Permit (ESP) No. ESP-004, issued to Southern Nuclear Operating Company (SNC) and several co-applicants (Georgia Power Company, Oglethorpe Power Corporation, Municipal Electric Authority of Georgia, and the City of Dalton, Georgia), for the Vogtle Electric Generating Plant (VEGP) ESP site located in Burke County, Georgia. The proposed amendment would modify the Vogtle Electric Generating Plant ESP site safety analysis report (SSAR) to allow the use of Category 1 and 2 backfill obtained from onsite borrow areas not previously specifically identified in the VEGP ESP SSAR.

NRC has prepared an Environmental Assessment (EA) in support of this amendment in accordance with the requirements of 10 CFR Part 51. Based on the EA, the NRC has concluded that a Finding of No Significant Impact (FONSI) is appropriate. The NRC staff's review of the safety aspects of the amendment request will be documented in a separate safety evaluation report (SER); if warranted by the results of that evaluation, the amendment would be issued following the publication of this Notice.

II. EA Summary

The purpose of the proposed amendment is to authorize a change to the early site permit issued to SNC for the Vogtle Electric Generating Plant ESP site located in Burke County, Georgia. Specifically, the proposed amendment would modify the Vogtle Electric Generating Plant ESP SSAR to allow the use of Category 1 and 2 backfill obtained from onsite borrow areas that were not previously specified in the VEGP ESP SSAR.

By letter dated May 13, 2010, the applicant requested that the NRC consider issuing a limited scope approval (LSA) of a subset of onsite locations pending the NRC determination on the remainder of the borrow sources identified in the LAR. The borrow sources encompassed by this limited scope approval are in areas for which impacts were previously analyzed in the environmental review documented in NUREG 1872, Vol. 1, Final Environmental Impact Statement for an Early Site Permit (ESP) at the Vogtle Electric Generating Plant Site (ESP FEIS) (NRC 2008). Under 10 CFR 51.21, “Criteria for and Identification of Licensing and Regulatory Actions Requiring Environmental Assessments,” the NRC prepared an EA that evaluated the impacts associated with the LSA and, based on that EA, reached a Finding of No Significant Impact. The LSA portion of the LAR was approved as Amendment No. 1 to ESP number ESP-004 on May 21, 2010. By letter dated May 24, 2010, the applicant clarified the scope of the remainder of its April 20 LAR by limiting the request to three other specific portions of the VEGP site (i.e., other than those already approved by Amendment 1) that would be used as additional onsite sources of Category 1 and Category 2 backfill. The environmental impacts from disturbance of these borrow locations were not previously evaluated in the ESP FEIS or in the LSA EA; accordingly, pursuant to 10 CFR 51.45, the May 24, 2010 letter also included an environmental report (ER) assessing the impacts associated with the remaining portion of the revised LAR.

The staff has prepared the EA in support of its review of the proposed license amendment. The EA evaluates the activities associated with acquiring backfill from those on-site areas specified in SNC's letter of May 24, 2010 and summarizes the radiological and nonradiological environmental impacts that may result from granting the amendment request. The staff has determined that granting the proposed amendment would not result in significant nonradiological impacts to land use, surface and groundwater resources, terrestrial and aquatic resources, threatened and endangered species, socioeconomic factors and environmental justice, cultural and historical resources, air quality, and nonradiological human health. In addition, the staff has determined that there are no significant radiological health impacts associated with the proposed action.

III. Finding of No Significant Impact

On the basis of the EA, the NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. The NRC's Agencywide Document Access and Management System (ADAMS), which provides text and image files of NRC's public documents, may be accessed from this site. The ADAMS accession numbers for the documents related to this notice are: The application dated April 20, 2010, as supplemented by letters dated April 23, 28, May 5, 10, 13, 20, and 24 2010 is available at ML101120089, ML101160531, ML101230337, ML101270283, ML101330141, ML101340649, ML101440385, and ML101470212 respectively. The EA and Finding of No Significant Impact evaluation is available at ML101670592. Persons who do not have access to ADAMS or who encounter problems in accessing the documents located in ADAMS should contact the NRC Public Document Room (PDR) Reference staff by telephone at 1-800-397-4209, 301-415-4737 or by e-mail to pdr.resource@nrc.gov.

These documents may also be viewed electronically on the public computers located at the NRC's Public Document Room (PDR), O 1 F21, One White Flint North, 11555 Rockville Pike Rockville, MD 20852. The PDR reproduction contractor will copy documents for a fee.

Dated at Rockville, Maryland this 21st day of June, 2010.
For the Nuclear Regulatory Commission.
Terri Spicher,
Project Manager, AP1000 Branch1, Division of New Reactors Licensing, Office of New Reactors.

[FR Doc. 2010-15441 Filed 6-24-10; 8:45 am]

BILLING CODE 7590-01-P